INTERNATIONAL TRADE COMMISSION

[Investigation No. 332-528]

Used Electronic Products: An Examination of U.S. Exports; Institution of Investigation and Scheduling of Hearing

AGENCY: United States International Trade Commission.

ACTION: Institution of investigation and scheduling of public hearing.

SUMMARY: Following receipt of a request on January 9, 2012, from the United States Trade Representative (USTR) under section 332(g) of the Tariff Act of 1930 (19 U.S.C. 1332(g)), the U.S. International Trade Commission (Commission) instituted investigation No. 332-528, Used Electronic Products: An Examination of U.S. Exports.

DATES: April 16, 2012: Deadline for filing request to appear at the public hearing.

April 30, 2012: Deadline for filing pre-hearing briefs and statements.

May 15, 2012: Public hearing.

May 22, 2012: Deadline for filing post-hearing briefs and statements.

September 14, 2012: Deadline for filing all other written submissions.

February 8, 2013: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: Project Leader Laura Bloodgood (202) 708-4726 or laura.bloodgood@usitc.gov or Deputy Project Leader Andrea Boron (202) 205-3433 or andrea.boron@usitc.gov for information specific to this investigation. For information on the legal aspects of this investigation, contact William Gearhart of the Commission's Office of the General Counsel (202) 205-3091 or william.gearhart@usitc.gov. The media should contact Margaret O'Laughlin, Office of External Relations (202) 205-1819 or margaret.olaughlin@usitc.gov. Hearing-impaired individuals may obtain information on this matter by contacting the Commission's TDD terminal at (202) 205-1810. General information concerning the Commission may also be obtained by accessing its Internet server (http://www.usitc.gov). Persons with mobility impairments who will need special assistance in gaining access to the Commission should contact the Office of the Secretary at (202) 205-2000.

SUPPLEMENTARY INFORMATION:

Background

As requested by USTR, the Commission will conduct an investigation and prepare a report that describes U.S. exports of used electronic products, such as audio and visual equipment, computers and peripheral equipment, digital imaging devices, telecommunication equipment, and component parts of these products, and such additional electronic products as the Commission deems relevant. As requested, the report will be based on a review of available data and other information, including primary data collected through a survey of enterprises engaged in exporting used electronic products from the United States. The report will cover 2011, or the latest year for which data are available, and, to the extent practicable, include the following:

• The type, volume, and value of, and foreign markets of significance for, exports of used electronic products from the United States;

• The forms and activities, with respect to used electronic products, of enterprises receiving U.S. exporters' shipments, most common end uses of exports in the foreign market (i.e., further processing, final disposal, etc.), and the extent of cross-border, intra-firm shipments by U.S. exporters;

• The characteristics of used electronic products exported from the United States, including product condition (e.g., working, non-working, remanufacturable, refurbishable, repairable), composition of shipments (single product type, multiple product types), and the extent to which exports are processed (broken down or stripped), or remain intact prior to exportation;

• The forms, activities and characteristics of domestic exporting enterprises (e.g., original equipment manufacturers, remanufacturers, refurbishers, brokers, recyclers, non-profits, etc.) including the extent to which the exporter is foreign-invested;

• The relative share of sales by U.S. companies of used electronic products that are (1) exported, (2) sold to firms in the United States, (3) processed by the exporter itself, and (4) disposed of by the exporter itself; and

• The factors affecting trade in used electronic products.

The USTR asked that the Commission provide its report no later than 13 months from the date of receipt of the letter.

Public Hearing

A public hearing in connection with this investigation will be held at the U.S. International Trade Commission Building, 500 E Street SW., Washington, DC, beginning at 9:30 am on May 15, 2012. Requests to appear at the public hearing should be filed with the Secretary no later than 5:15 p.m., April 16, 2012, in accordance with the requirements in the “written submissions” section below. All pre-hearing briefs and statements should be filed with the Secretary no later than 5:15 p.m. on April 30, 2012; and all post-hearing briefs and statements should be filed with the Secretary no later than 5:15 p.m., May 22, 2012. In the event that, as of the close of business on April 16, 2012, no witnesses are scheduled to appear at the hearing, the hearing will be canceled. Any person interested in attending the hearing as an observer or nonparticipant should contact the Office of the Secretary at (202) 205-2000 after April 16, 2012, for information concerning whether the hearing will be held.

Written Submissions

In lieu of or in addition to participating in the hearing, interested parties are invited to file written submissions concerning this investigation. All written submissions should be addressed to the Secretary, and should be received no later than 5:15 p.m., September 14, 2012. All written submissions must conform to the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook on Electronic Filing Procedures, http://www.usitc.gov/docket_services/documents/handbook_on_electronic_filing.pdf). Persons with questions regarding electronic filing should contact the Secretary (202) 205-2000.

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter the USTR said that he anticipates that the Commission's report will be made available to the public in its entirety, and asked that the Commission not include any confidential business or national security information in the report it sends him. Accordingly, any confidential business information received by the Commission in this investigation and used in preparing this report will not be included in the report that the Commission sends to the USTR and will not be published in a manner that would reveal the operations of the firm supplying the information.

By order of the Commission.
Issued: January 30, 2012.
James R. Holbein,
Secretary to the Commission.

[FR Doc. 2012-2349 Filed 2-1-12; 8:45 am]

BILLING CODE 7020-02-P